DEPARTMENT OF AGRICULTURE

Grain Inspection, Packers and Stockyards Administration (GIPSA)

Designation for the Owensboro, KY; Bloomington, IL; Iowa Falls, IA; Casa Grande, AZ; Fargo, ND; Grand Forks, ND; and Plainview, TX Areas

AGENCY: Grain Inspection, Packers and Stockyards Administration, USDA.

ACTION: Notice.

SUMMARY: GIPSA is announcing the designation of J.W. Barton Grain Inspection Service, Inc. (Barton); Central Illinois Grain Inspection, Inc. (Central Illinois); Central Iowa Grain Inspection Corporation (Central Iowa); Farwell Commodity and Grain Services, Inc. (Farwell SW); North Dakota Grain Inspection Service, Inc. (North Dakota); Northern Plains Grain Inspection Service, Inc. (Northern Plains); and Plainview Grain Inspection and Weighing Service, Inc. (Plainview) to provide official services under the United States Grain Standards Act (USGSA), as amended.

DATES: April 1, 2014.

ADDRESSES: Eric J. Jabs, Chief, USDA, GIPSA, FGIS, QACD, QADB, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the July 22, 2013 Federal Register (78 FR 43850), GIPSA requested applications for designation to provide official services in the geographic areas presently serviced by Barton, Central Illinois, Central Iowa, Farwell SW., North Dakota, Northern Plains, and Plainview. Applications were due by August 21, 2013.

Barton, Central Illinois, Central Iowa, Farwell Southwest, North Dakota, Northern Plains, and Plainview were the sole applicants for designation to provide official services in these areas. As a result, GIPSA did not ask for additional comments.

GIPSA evaluated all available information regarding the designation criteria in section 79(f) of the USGSA (7 U.S.C. 79(f)) and determined that Barton, Central Iowa, North Dakota, Northern Plains, and Plainview are qualified to provide official services in the geographic area specified in the Federal Register on July 22, 2013. This designation action to provide official services in these specified areas is effective April 1, 2014 to March 31, 2017.

After completing an initial quality management review of Farwell SW., GIPSA determined that a follow-up review should be conducted. Accordingly, GIPSA is designating Farwell SW to provide services in this specified area for one year, effective April 1, 2014 to March 31, 2015. During this timeframe, such a review will be conducted.

GIPSA published a Federal Register Notice (79 FR 3172) on January 17, 2014 amending Central Illinois' designation to include the area previously designated to Decatur Grain Inspection, Inc. (Decatur), effective October 17, 2013 to March 31, 2014. In view of this, GIPSA is separately publishing an opportunity for designation in the Federal Register for the amended geographic area. Accordingly, GIPSA is designating Central Illinois to provide official services in that amended geographic area until a designee is selected and announced in the Federal Register. This period is not to exceed one year.

Interested persons may obtain official services by contacting these agencies at the following telephone numbers:

Official agency | Headquarters location and telephone | Designation start | Designation end
Barton | Owensboro, KY (270) 683-0616 | 4/1/2014 | 3/31/2017
Central Iowa | Iowa Falls, IA (641) 648-3467 | 4/1/2014 | 3/31/2017
Central Illinois | Bloomington, IL (309) 827-7121 | 4/1/2014 | 3/31/2015 or earlier ¹
Farwell SW | Casa Grande, AZ (520) 421-1027 | 4/1/2014 | 3/31/2015
North Dakota | Fargo, ND (701) 293-7420 | 4/1/2014 | 3/31/2017
Northern Plains | Grand Forks, ND (701) 772-2414 | 4/1/2014 | 3/31/2017
Plainview | Plainview, TX (806) 893-1364 | 4/1/2014 | 3/31/2017

¹ Illinois is being designated to provide official services in the amended geographic area until 3/31/2015 or until a designee is announced in the Federal Register, whichever is earlier.

Section 79(f) of the USGSA authorizes the Secretary to designate a qualified applicant to provide official services in a specified area after determining that the applicant is better able than any other applicant to provide such official services (7 U.S.C. 79 (f)).

Under section 79(g) of the USGSA, designations of official agencies are effective for no longer than three years unless terminated by the Secretary; however, designations may be renewed according to the criteria and procedures prescribed in section 79(f) of the USGSA.

Authority: 7 U.S.C. 71-87k.

Susan Keith,
Acting Administrator, Grain Inspection, Packers and Stockyards Administration.

[FR Doc. 2014-08996 Filed 4-18-14; 8:45 am]

BILLING CODE 3410-KD-P